DEPARTMENT OF COMMERCE

National Oceanic and Atmospheric Administration

50 CFR Part 660

[Docket No. 230508-0124; RTID 0648-XD128]

Fisheries Off West Coast States; Modification of the West Coast Salmon Fisheries; Inseason Actions #11-#16

AGENCY: National Marine Fisheries Service (NMFS), National Oceanic and Atmospheric Administration (NOAA), Commerce.

ACTION: Inseason modification of 2023 management measures.

SUMMARY: NMFS announces six inseason actions for the 2023-2024 ocean salmon fishing season. These inseason actions modify the commercial and recreational salmon fisheries in the area from the U.S./Canada border to the U.S./Mexico border.

DATES: The effective date for these inseason actions are set out in this document under the heading “Inseason Actions” and the actions remain in effect until superseded or modified.

FOR FURTHER INFORMATION CONTACT: Shannon Penna, 562-980-4239, Shannon.Penna@noaa.gov.

SUPPLEMENTARY INFORMATION:

Background

The annual management measures for the 2023 and early 2024 ocean salmon fisheries (88 FR 30235, May 11, 2023) govern the commercial and recreational fisheries in the area from the U.S./Canada border to the U.S./Mexico border, effective from 0001 hours Pacific Daylight Time (PDT), May 16, 2023, until the effective date of the 2024 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF and SOF commercial salmon troll fisheries, as set out under the heading “Inseason Actions” below.

Consultation with the Council Chairperson on these inseason actions occurred on June 21, 2023, June 24, 2023, June 30, 2023, July 6, 2023, and July 11, 2023. These consultations included representatives from NMFS, Washington Department of Fish and Wildlife, Oregon Department of Fish and Wildlife, and California Department of Fish and Wildlife. Representatives from the Salmon Advisory Subpanel and Salmon Technical Team were also present. A Council representative was present on June 21, 2023, June 24, 2023, and July 6, 2023.

These inseason actions were announced on NMFS' telephone hotline and U.S. Coast Guard radio broadcast on the date of the consultations (50 CFR 660.411(a)(2)).

Inseason Actions

Inseason Action #11

Description of the action: Inseason action #11 modifies the NOF ocean salmon troll commercial fishery. The area between the U.S./Canada border and Cape Falcon is closed.

Effective dates: Inseason action #11 took effect on June 21, 2023, at 11:59 p.m. and remains in effect until June 30, 2023, at 11:59 p.m.

Reason and authorization for the action: Inseason action #11 was necessary to avoid exceeding the area of NOF quota for Chinook salmon. The NMFS West Coast Regional Administrator (RA) considered the 2023 abundance forecasts for Chinook salmon stocks, the timing of the action relative to the length of the season, and determined that this inseason action is necessary to meet management and conservations goals for the 2023-2024 management measures. This inseason action modified quotas and/or fishing seasons under 50 CFR 660.409(b)(1)(i).

Inseason Action #12

Description of the action: Inseason action #12 modifies the NOF ocean salmon troll commercial fishery in the area between the U.S./Canada border and Cape Falcon. The landing and possession limit is 11 Chinook salmon per vessel for the period June 24, 2023, through June 29, 2023.

Effective dates: Inseason action #12 took effect on June 24, 2023, at 12:01 a.m., and remains in effect until June 29, 2023, at 11:59 p.m.

Reason and authorization for the action: The total Chinook salmon landings in the area from the U.S./Canada border to Cape Falcon are estimated to be 25,148 Chinook salmon out of the May-June 2023 quota of 26,000 Chinook salmon leaving a remainder of 248 Chinook salmon quota. Inseason action was necessary to allow opportunity to catch the remainder of the Chinook salmon quota, while limiting catch to ensure that the quota is not exceeded.

The RA considered the 2023 abundance forecasts for Chinook salmon stocks, the timing of the action relative to the length of the season, and determined that this inseason action is necessary to meet management and conservations goals for the 2023-2024 management measures. This inseason action modified quotas and/or fishing seasons under 50 CFR 660.409(b)(1)(i).

Inseason Action #13

Description of the action: Inseason action #13 modifies the NOF ocean salmon troll commercial fishery in the area between the U.S./Canada border and Cape Falcon. The landing and possession limit was increased from 11 Chinook salmon per vessel per landing week to 50 Chinook salmon per vessel per landing week (Thursday-Wednesday).

Effective dates: Inseason action #13 took effect on July 1, 2023 at 12:01 a.m., and remains in effect until superseded.

Reason and authorization for the action: Inseason action #13 was necessary to preserve the season length and allow access to the Chinook and coho salmon quota.

The RA considered the 2023 abundance forecasts for Chinook salmon stocks, the timing of the action relative to the length of the season, and determined that this inseason action is necessary to meet management and conservations goals for the 2023-2024 management measures. This inseason action modified quotas and/or fishing seasons under 50 CFR 660.409(b)(1)(i).

Inseason Action #14

Description of the action: Retention of halibut caught incidental to the commercial salmon troll fishery (U.S./Canada border to the U.S./Mexico border) is extended past June 30, 2023, and remains in effect until superseded.

Effective dates: Inseason action #14 took effect on July 1, 2023, at 12:01 a.m. and remains in effect until superseded.

Reason and authorization for the action: The 2023 salmon management measures (88 FR 30235, May 11, 2023) authorize the retention of Pacific halibut caught incidental to the commercial salmon troll fishery in 2023 during April, May, and June, and after June 30, 2023, if quota remains and is announced on the NMFS telephone hotline for salmon fisheries. The remaining available incidental Pacific halibut quota for the commercial salmon troll fishery is 12,674 pounds (5748.8 kg; head off), as of June 29, 2023, leaving 75.5 percent of the quota unharvested.

The RA considered the landed catch of Pacific halibut to date and the amount of quota remaining, and determined that this inseason action was necessary to meet management and conservations goals for the 2023-2024 management measures for catch sharing of halibut. Inseason modification of the species that may be caught and landed during specific seasons is authorized by 50 CFR 660.409(b)(1)(ii).

Inseason Action #15

Description of the action: Inseason action #15 modifies the recreational fishery between the U.S./Canada border and the Queets River (Neah Bay and La Push subareas), daily limit of two salmon per day.

Effective date: Inseason action #15 took effect on July 8, 2023, at 12:01 a.m., and remains in effect until September 30, 2023, at 11:59 p.m.

Reason and authorization for the action: In the area from the U.S./Canada border to the Queets River (Neah Bay and La Push subareas), the catch limit was adjusted from two salmon per day, of which only one may be a Chinook salmon, to two salmon per day with no separate limit on the number of Chinook salmon per day. Inseason action #15 was necessary to allow for an increase in Chinook salmon retention and provide greater fishing opportunity for the public to access the available Chinook salmon quota.

The RA considered the 2023 abundance forecasts for Chinook salmon stocks, and the timing of the action relative to the length of the season, as well as the catch to date, and determined that this inseason action is necessary to meet management and conservations goals for the 2023-2024 management measures. Inseason action to modify bag limits is authorized under 50 CFR 660.409(b)(1)(iii).

Inseason Action #16

Description of the action: Inseason action #16 modifies the NOF ocean salmon troll commercial fishery in the area between the U.S./Canada border and Cape Falcon. The landing and possession limit is decreased from 50 Chinook salmon per vessel per landing week to 35 Chinook salmon per vessel per landing week (Thursday-Wednesday).

Effective date: Inseason action #16 took effect on July 13, 2023, at 12:01 a.m., and remains in effect until September 30, 2023, at 11:59 p.m.

Reason and authorization for the action: Inseason action #16 was necessary to slow the rate of Chinook salmon catch in order to preserve the length of the salmon fishing season by setting a lower landing and possession limit. The RA considered the 2023 abundance forecasts for Chinook salmon stocks, the timing of the action relative to the length of the season, and determined that this inseason action is necessary to meet management and conservations goals for the 2023-2024 management measures. This inseason action modified quotas and/or fishing seasons under 50 CFR 660.409(b)(1)(i).

All other restrictions and regulations remain in effect as announced for the 2023 ocean salmon fisheries (88 FR 30235, May 11, 2023; 88 FR 44737, July 13, 2023).

The RA determined that these inseason actions were warranted based on the best available information on Pacific salmon abundance forecasts, landings and effort patterns to date, anticipated fishery effort and projected catch, and the other factors and considerations set forth in 50 CFR 660.409. The states and tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (88 FR 30235, May 11, 2023), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: July 28, 2023.
Jennifer M. Wallace,
Acting Director, Office of Sustainable Fisheries, National Marine Fisheries Service.

[FR Doc. 2023-16516 Filed 8-2-23; 8:45 am]

BILLING CODE 3510-22-P